DEPARTMENT OF THE INTERIOR

National Park Service

[NPS-WASO-NAGPRA-NPS0024980; PPWOCRADN0-PCU00RP14.R50000]

Notice of Intent To Repatriate Cultural Items: New Jersey State Museum, Trenton, NJ

AGENCY: National Park Service, Interior.

ACTION: Notice.

SUMMARY: The New Jersey State Museum, in consultation with the appropriate Indian Tribes or Native Hawaiian organizations, has determined that the cultural items listed in this notice meet the definition of unassociated funerary objects. Lineal descendants or representatives of any Indian Tribe or Native Hawaiian organization not identified in this notice that wish to claim these cultural items should submit a written request to the New Jersey State Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the New Jersey State Museum at the address in this notice by March 26, 2018.

ADDRESSES: Dr. Gregory D. Lattanzi, Bureau of Archaeology & Ethnology, New Jersey State Museum, 205 West State Street, Trenton, NJ 08625, telephone (609) 984-9327, email gregory.lattanzi@sos.nj.gov.

SUPPLEMENTARY INFORMATION: Notice is here given in accordance with the Native American Graves Protection and Repatriation Act (NAGPRA), 25 U.S.C. 3005, of the intent to repatriate cultural items under the control of the New Jersey State Museum, Trenton, NJ that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the 1930s, 5 cultural items were removed from Kyle Mound in Muscogee County, GA. Kyle Mound, consisting of a mound and associated cemetery, has been a known collecting site for artifacts, including funerary objects, since the 1880s. A hand-written label found with one of the artifacts, suggests that Mr. F.W. Miller sold part of the Kyle Mound to Charles A. Philhower. The note states “Bought from Mr. Miller in East Orange found by him on the Chattahoochee River between Alabama and Georgia—Pyle (sp. Kyle) Mound south of Columbus C.A.P. (Charles A. Philhower).” Philhower's entire archeological and ethnographic collection was transferred to the New Jersey State Museum from the Rutgers University Archives and Library. The 5 unassociated funerary objects are 2 ceramic bowls, 1 stone bowl, 1 necklace of blue and white beads, and 1 necklace of an assortment of different colored beads.

On an unknown date, 11 cultural items were removed from unknown locations in the state of Georgia. The circumstances of their removal are unclear as no documentation exists on the location within the state of Georgia. Where information exists, it is listed in the following sentences. The 11 unassociated funerary objects are 1 amber necklace from a grave, trade beads (1 necklace) from a grave, 6 necklaces of blue and white beads from a grave, 1 pearl necklace from a grave, and 2 necklaces of shell and beads from a grave.

A videoconference was held on July 14, 2016 between representatives of the New Jersey State Museum and the Eastern Band of Cherokee Indians, The Muscogee (Creek) Nation, and United Keetoowah Band of Cherokee Indians in Oklahoma. Through this consultation, it was determined that the cultural affiliation of the objects with the Cherokee could reasonably be ascertained. The United Keetoowah Band of Cherokee Indians in Oklahoma has taken the lead role in the repatriation process.

Determinations Made by the New Jersey State Museum

Officials of the New Jersey State Museum have determined that:

• Pursuant to 25 U.S.C. 3001(3)(B), the 16 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the United Keetoowah Band of Cherokee Indians in Oklahoma.

Additional Requestors and Disposition

Lineal descendants or representatives of any Indian Tribe or Native Hawaiian organization not identified in this notice that wish to claim these cultural items should submit a written request with information in support of the claim to Dr. Gregory D. Lattanzi, Bureau of Archaeology & Ethnology, New Jersey State Museum, 205 West State Street, Trenton, NJ 08625, telephone (609) 984-9327, email gregory.lattanzi@sos.nj.gov, by March 26, 2018. After that date, if no additional claimants have come forward, transfer of control of the 16 objects to United Keetoowah Band of Cherokee Indians of Oklahoma may proceed.

The New Jersey State Museum is responsible for notifying the Eastern Band of Cherokee Indians, The Muscogee (Creek) Nation, and United Keetoowah Band of Cherokee Indians in Oklahoma that this notice has been published.

Dated: February 2, 2018.
Melanie O'Brien,
Manager, National NAGPRA Program.

[FR Doc. 2018-03633 Filed 2-21-18; 8:45 am]

BILLING CODE 4312-52-P